NUCLEAR REGULATORY COMMISSION

Advisory Committee on Reactor Safeguards; Subcommittee Meeting on Safety Research Program; Notice of Meeting

The ACRS Subcommittee on Safety Research Program will hold a meeting on May 2, 2007, Room T-2B3, 11545 Rockville Pike, Rockville, Maryland.

The entire meeting will be open to public attendance.

The agenda for the subject meeting shall be as follows:

Wednesday, May 2, 2007—10:30 a.m. until the conclusion of business.

The Subcommittee will discuss the status of staff's efforts associated with the development of an integrated, long-term regulatory research plan. The purpose of this meeting is to gather information, analyze relevant issues and facts, and formulate proposed positions and actions, as appropriate, for deliberation by the full Committee.

Members of the public desiring to provide oral statements and/or written comments should notify the Designated Federal Official, Dr. Hossein P. Nourbakhsh (Telephone: 301-415-5622) five days prior to the meeting, if possible, so that appropriate arrangements can be made. Electronic recordings will be permitted.

Further information regarding this meeting can be obtained by contacting the Designated Federal Official between 7:30 a.m. and 4:15 p.m. (ET). Persons planning to attend this meeting are urged to contact the above-named individual at least two working days prior to the meeting to be advised of any potential changes to the agenda.

Dated: April 11, 2007.
Cayetano Santos,
Acting Branch Chief, ACRS.

[FR Doc. E7-7268 Filed 4-16-07; 8:45 am]

BILLING CODE 7590-01-P